ENVIRONMENTAL PROTECTION AGENCY

40 CFR Parts 52 and 81

[PA175-4117; FRL-6987-8]

Approval and Promulgation of Air Quality Implementation Plans; Pennsylvania; Redesignation of the Pittsburgh-Beaver Valley Ozone Nonattainment Area to Attainment and Approval of the Associated Maintenance Plan and Other Miscellaneous Revisions

AGENCY: Environmental Protection Agency (EPA).

ACTION: Proposed rule.

SUMMARY: EPA is proposing to redesignate the Pittsburgh-Beaver Valley ozone nonattainment area (the Pittsburgh Area) to attainment for the 1-hour ozone National Ambient Air Quality Standard (NAAQS). The Pittsburgh area is comprised of Allegheny, Armstrong, Beaver, Butler, Fayette, Washington, and Westmoreland counties. The EPA is also proposing to approve the maintenance plan, submitted by the Pennsylvania Department of Environmental Protection (PADEP) on April 9, 2001, as a revision to the Pennsylvania State Implementation Plan (SIP). Approval of the maintenance plan would put into place a plan for maintaining the 1-hour ozone standard for the next 10 years in the Pittsburgh area. PADEP submitted a 1990 base year emissions inventory for nitrous oxides (NOX) to EPA on March 22, 1996 and supplemented the inventory on February 18, 1997. EPA is also proposing to approve the 1990 NOX base year inventory. Lastly, EPA is also proposing to convert the limited approval of Pennsylvania's New Source Review (NSR) program to full approval throughout the Commonwealth, with the exception of the 5-county Pennsylvania portion of the Philadelphia-Wilmington-Trenton ozone nonattainment area where it will retain its limited approval status until that area has an approved attainment demonstration for the 1-hour ozone standard.

DATES: Written comments must be received on or before June 29, 2001.

ADDRESSES: Written comments may be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; Pennsylvania Department of Environmental Resources, Bureau of Air Quality Control, P.O. Box 8468, 400 Market Street, Harrisburg, Pennsylvania 17105.

FOR FURTHER INFORMATION CONTACT: Jill Webster, (215) 814-2033, or via e-mail at Webster.Jill@epamail.epa.gov.

SUPPLEMENTARY INFORMATION: On April 9, 2001, the Commonwealth submitted a request that EPA redesignate the Pittsburgh area to attainment. The Commonwealth simultaneously submitted its proposed maintenance plan for the Pittsburgh area and requested that EPA parallel process its approval of that plan as a SIP revision. In this document, EPA will answer the following:

What action is EPA proposing to take?

Why is EPA taking this action?

What would be the effect of this redesignation?

What is the background for this action?

What are the redesignation review criteria?

What is EPA's analysis of the commonwealth's request?

What actions is EPA proposing to take?

Pursuant to a request from the Commonwealth of Pennsylvania, EPA is proposing to redesignate the Pittsburgh moderate ozone area from nonattainment to attainment of the 1-hour ozone NAAQS. We are also proposing to approve the Pittsburgh area's maintenance plan submitted by PADEP on April 9, 1990 for approval by EPA as a SIP revision. This revision is being proposed under a procedure called parallel processing, whereby EPA proposes rulemaking action concurrently with the state's procedures for amending its SIP. If the proposed maintenance plan is substantially changed in areas other than those identified in this notice, EPA will evaluate those changes and may publish another notice of proposed rulemaking. If no substantial changes are made other than those areas cited in this notice, Pennsylvania will adopt its maintenance plan. The final rulemaking action by EPA will occur only after the SIP revision (i.e., the Pittsburgh area's maintenance plan) has been adopted by Pennsylvania and submitted formally to EPA for incorporation into the SIP.

Why is EPA taking this action?

The Pittsburgh area meets the redesignation and maintenance plan requirements of the Clean Air Act (CAA).

What would be the effect of this redesignation?

The redesignation would change the official designation of the Pennsylvania counties of Allegheny, Armstrong, Beaver, Butler, Fayette, Washington, and Westmoreland from nonattainment to attainment for the 1-hour ozone standard. It would also put into place a plan for maintaining the 1-hour ozone standard for the next 10 years. This maintenance plan includes contingency measures to address any future violations of the 1-hour ozone NAAQS.

What is the background for this action?

On November 15, 1990, the CAA amendments were enacted. Pursuant to section 107(d)(4)(A), on November 6, 1991 (56 FR 56694), the Pennsylvania counties of Allegheny, Armstrong, Beaver, Butler, Fayette, Washington, and Westmoreland were designated as the Pittsburgh-Beaver Valley moderate ozone nonattainment area. On November 12, 1993, the Commonwealth of Pennsylvania formally submitted a redesignation request for the Pittsburgh ozone nonattainment area. At the same time, the Commonwealth submitted a maintenance plan for the Pittsburgh area as a SIP revision. The maintenance plan was subsequently amended on January 13, 1994. In November 1994, the Commonwealth of Pennsylvania suspended the implementation of certain key control programs for which substantial emission reduction credit had been taken in the submitted maintenance plan—rendering it no longer approvable. Not until May 12, 1995 did Pennsylvania submit a revised maintenance plan to correct the deficiencies caused by the suspension of the previous version's key control strategies. Early during the 1995 ozone season, and prior to the time EPA could initiate rulemaking on the May 12, 1995 submittal, the Pittsburgh area violated the ozone NAAQS, making the area ineligible for redesignation. The Commonwealth chose not to withdraw its redesignation request. Therefore, on May 1, 1996 (61 FR 19193), EPA disapproved the Commonwealth's request based upon the fact that the area violated the NAAQS for ozone in 1995.

On November 25, 1996 the Commonwealth certified that the Pittsburgh area monitored no exceedances during 1996 and formally requested an attainment date extension from November 1996 to November 1997. EPA granted the Commonwealth an attainment date extension on February 25, 1997 (62 FR 8389). Subsequently, the area violated the NAAQS again during the 1997 ozone season. As discussed later in this document, the Commonwealth has since adopted and implemented additional control measures in the Pittsburgh area to reduce ozone precursors.

The Pittsburgh area has recorded three years of complete quality-assured, violation-free ambient air quality monitoring data for the 1998 to 2000 ozone seasons, thereby demonstrating that the area has attained the 1-hour ozone NAAQS. On April 9, 2001, PADEP submitted a request that EPA redesignate the Pittsburgh area from nonattainment to attainment of the 1-hour ozone standard. The PADEP also requested that EPA parallel process its approval of the maintenance plan in concert with the Commonwealth's procedures for amending its SIP.

What are the redesignation review criteria?

The Act provides the requirements for redesignating a nonattainment area to attainment. Specifically, section 107(d)(3)(E) allows for redesignation providing that: (1) The Administrator determines that the area has attained the NAAQS; (2) The Administrator has fully approved the applicable implementation plan for the area under section 110(k); (3) The Administrator determines that the improvement in air quality is due to permanent and enforceable reductions in emissions resulting from implementation of the applicable Federal air pollutant control regulations and other permanent and enforceable reductions; (4) The Administrator has fully approved a maintenance plan for the area as meeting the requirements of section 175(A); and, (5) The State containing such area has met all requirements applicable to the area under section 110 and part D.

The EPA provided guidance on redesignation in the General Preamble for the Implementation of Title I of the Clean Air Act Amendments of 1990 on April 16, 1992 (57 FR 13498) and supplemented on April 28, 1992 (57 FR 18070). The EPA has provided further guidance on processing redesignation requests in the following documents:

1. “Part D New Source Review (part D NSR) Requirements for Areas Requesting Redesignation to Attainment,” Mary D. Nichols, Assistant Administrator for Air and Radiation, October 14, 1994, (Nichols, October 1994).

2. “Use of Actual Emissions in Maintenance Demonstrations for Ozone and Carbon Monoxide, (CO) Nonattainment Areas,” D. Kent Berry, Acting Director, Air Quality Management Division, November 30, 1993.

3. “State Implementation Plan (SIP) Requirements for Areas Submitting Requests for Redesignation to Attainment of the Ozone and Carbon Monoxide (CO) National Ambient Air Quality Standards (NAAQS) on or after November 15, 1992,” Michael H. Shapiro, Acting Assistant Administrator for Air and Radiation, September 17, 1993.

4. “State Implementation Plan (SIP) Actions Submitted in Response to Clean Air Act Deadlines,” John Calcagni, Director, Air Quality Management Division, October 28, 1992. (Calcagni, October 1992).

5. “Procedures for Processing Requests to Redesignate Areas to Attainment,” John Calcagni, Director, Air Quality Management Division, September 4, 1992.

6. “Contingency Measures for Ozone and Carbon Monoxide (CO) Redesignations,” G.T. Helms, Chief Ozone/Carbon Monoxide Programs Branch, June 1, 1992.

7. State Implementation Plans; General Preamble for the Implementation of Title I of the Clean Air Act Amendments of 1990 (57 FR 13498), April 16, 1992.

What Is EPA's analysis of the Commonwealth's request?

1. The Area Must Be Attaining the 1-Hour Ozone NAAQS

For ozone, an area may be considered attaining the 1-hour ozone NAAQS if there are no violations, as determined in accordance with 40 CFR 50.9 and appendix H, based upon three complete consecutive calendar years of quality assured monitoring data. A violation of the 1-hour ozone NAAQS occurs when the annual average number of expected daily exceedances is equal to or greater than 1.05 per year at a monitoring site. A daily exceedance occurs when the maximum hourly ozone concentration during a given day is 0.125 parts per million (ppm) or higher. The data must be collected and quality-assured in accordance with 40 CFR part 58, and recorded in AIRS. The monitors should have remained at the same location the duration of the monitoring period required for demonstrating attainment. The PADEP submitted ozone monitoring data for the April through October ozone season from 1998 to 2000. This data has been quality assured and is recorded in AIRS. During the 1998 to 2000 time period, the design value is 123 parts per billion. The average annual number of expected exceedances is 1.0 for that same time period. Therefore, the first criterion of section 107(d)(3)(E) has been satisfied.

2. The Area Must Have a Fully Approved SIP Under Section 110(k); and the Area Must Have Met All Applicable Requirements Under Section 110 and Part D

Section 110 Requirements: General SIP elements are delineated in section 110(a)(2) of Title I, part A. These requirements include but are not limited to the following: submittal of a SIP that has been adopted by the state after reasonable notice and public hearing, provisions for establishment and operation of appropriate apparatus, methods, systems and procedures necessary to monitor ambient air quality, implementation of a permit program, provisions for part C, Prevention of Significant Deterioration (PSD), and part D, New Source Review (NSR) permit programs, criteria for stationary source emission control measures, monitoring and reporting, an enhanced Inspection and Maintenance (I/M) program, and provisions for public and local agency participation. For the purposes of redesignation, the Pennsylvania SIP was reviewed to ensure that all requirements under the amended CAA were satisfied through approved SIP provisions for the Pittsburgh area. EPA has concluded that the Commonwealth's SIP for the Pittsburgh area satisfies all of the section 110 SIP requirements of the CAA.

Part D: General Provisions for Nonattainment Areas: Before the Pittsburgh area may be redesignated to attainment, it must have fulfilled the applicable requirements of part D. Under part D, an area's classification determines the requirements to which it is subject. Subpart 1 of part D sets forth the basic nonattainment requirements applicable to all nonattainment areas. Subpart 2 of part D establishes additional requirements for nonattainment areas classified under Table 1 of section 181(a). As described in the General Preamble for the Implementation of Title 1, specific requirements of subpart 2 may override subpart 1's general provisions (57 FR 13501, April 16, 1992). The Pittsburgh area was classified as moderate ozone nonattainment. Therefore, in order to be redesignated, the Commonwealth must meet the applicable requirements of subpart 1 of part D—specifically section 172(c) and 176, as well as the applicable requirements of subpart 2 of part D.

Section 172(c) Requirements: EPA has determined that the redesignation request received from PADEP for the Pittsburgh area has satisfied all the relevant submittal requirements under section 172(c) necessary for the area to be redesignated.

Earlier this year, on January 10, 2001 (66 FR 1925), EPA proposed that the requirements of section 172(c)(1) and 182(b)(1) concerning submission of an ozone attainment demonstration and reasonably available control measures for reasonable further progress (RFP) or attainment will no longer be applicable to the area.

The RFP requirement under section 172(c)(2) is defined as progress that must be made toward attainment. Section 182(b)(1)(A) sets forth the specific requirements for RFP. On March 22, 1996, the Commonwealth submitted a 15% Rate of Progress plan for the Pittsburgh area. EPA granted conditional of that 15% plan on January 14, 1998 (63 FR 2147). On April 3, 2001 (66 FR 17634), EPA converted its conditional approval of the Pittsburgh area's 15% plan to a full approval. By meeting the specific 15% plan RFP requirement of section 182(b)(1)(A), the Pittsburgh area is also meeting the RFP requirement of section 172(c)(2).

Section 172(c)(3) requires submission and approval of a comprehensive, accurate and current inventory of actual emissions. On January 14, 1998 (63 FR 2147), EPA published a conditional approval of the 1990 base year emissions inventory of volatile organic compounds (VOCs) submitted by PADEP for the Pittsburgh area. On April 3, 2001, EPA converted its conditional approval of the VOC emissions inventory for the Pittsburgh area to a full approval (66 FR 17634). Today, EPA is proposing to approve the 1990 NOX emission inventory for the Pittsburgh area as submitted by PADEP on March 22, 1996, and supplemented on February 18, 1997.

Section 172(c)(5) requires permits for the construction and operation of new and modified major stationary sources anywhere in the nonattainment area. Section 182(b)(5) requires all major new sources or modifications in a moderate nonattainment area to achieve offsetting reductions of VOC's at a ratio of at least 1.15 to 1.0. The EPA granted limited approval of the Commonwealth's NSR program on December 9, 1997 (62 FR 64722). EPA's sole reason for granting limited approval rather than full approval of Pennsylvania's regulations was that they do not contain certain restrictions on the use of emission reductions from the shutdown and curtailment of existing sources or units as NSR offsets. These restrictions only apply in nonattainment areas without an approved attainment demonstration (see 40 CFR part 51.165(a)(ii)(C)). The only portion of the Commonwealth where an attainment demonstration is still required, and has yet to be approved, is the Pennsylvania portion of the Philadelphia-Wilmington-Trenton severe ozone nonattainment area (consisting of Philadelphia, Delaware, Chester, Montgomery, and Bucks counties). Therefore, EPA is also proposing to convert its limited approval of Pennsylvania's NSR program to full approval for the entire Commonwealth, with the exception of the Pennsylvania portion of the Philadelphia-Wilmington-Trenton severe ozone nonattainment area where it shall, for the time being, retain its limited approval status.

Section 176 Conformity Requirements. Section 176(c) of the CAA requires states to establish criteria and procedures to ensure that Federally supported or funded projects conform to the air quality planning goals in the applicable SIP. The requirements to determine conformity applies to transportation plans, programs and projects developed, funded or approved, under title 23 U.S.C. of the Federal Transit Act (“transportation conformity”), as well as to all other Federally supported or funded projects (“general conformity”). Section 176 further provides that state conformity revisions must be consistent with Federal conformity regulations that the CAA required the EPA to promulgate. The EPA believes it is reasonable to interpret the conformity requirements as not applying for purposes of evaluating the redesignation request under section 107(d). The rationale for this is based on a combination of two factors. First, the requirement to submit SIP revisions, to comply with the conformity provision of the CAA continues to apply to areas after redesignation to attainment, since such areas would be subject to a section 175A maintenance plan. Second, EPA's Federal conformity rules require the performance of conformity analyses in the absence of Federally approved state rules. Therefore, because areas are subject to the conformity requirements regardless of whether they are redesignated to attainment and must implement conformity under Federal rules if state rules are not yet approved, the EPA believes it is reasonable to view these requirements as not applying for purposes of evaluating a redesignation request. Consequently, EPA may approve the ozone redesignation request for the Pittsburgh area without a fully approved conformity SIP. See Detroit, Michigan, carbon monoxide redesignation published on June 30, 1999 (64 FR 35017), Cleveland-Akron-Lorain ozone redesignation published on May 7, 1996 (61 FR 20458), and Tampa, Florida, published on December 7, 1995 (60 FR 52748). EPA did approve the Commonwealth's general conformity SIP on September 29, 1997 (62 FR 50870).

By proposing approval of the maintenance plan for the Pittsburgh area, EPA is also proposing to approve the Motor Vehicle Emission Budgets (MVEB) contained in that plan adequate for maintenance of the ozone NAAQS. Upon the effective date of the final approval of the maintenance plan for the Pittsburgh area, the MVEB's for both VOC and NOX contained in the plan shall be the applicable budgets that must be used for purposes of demonstrating transportation conformity. These budgets shall replace the VOC budget of the 15% plan and the so-called “NOX Build/No Build Test” currently being used to demonstrate transportation conformity in the Pittsburgh area.

Subpart 2 Section 182 Requirements. The Pittsburgh area is classified as moderate ozone nonattainment; therefore part D, subpart 2 section 182(b) requirements apply. In accordance with the September 17, 1993 EPA guidance memorandum, the requirements which came due prior to the submission of the request to redesignate the area must be fully approved into the SIP before or at the time of the request to redesignate the area to attainment. Those requirements are discussed below:

1990 Base Year Inventory. The 1990 base year emission inventory was due on November 15, 1992. PADEP submitted the 1990 base year emission inventory on March 22, 1996 and later supplemented it on February 18, 1997. Today, EPA is proposing approval of the 1990 base year NOX inventory for the Pittsburgh area submitted by the Commonwealth on March 22, 1996 and supplemented on February 18, 1997. Please note that EPA converted its January 14, 1998 (63 FR 2147) conditional approval of the VOC base year inventory to a full approval on April 3, 2001 (66 FR 17634).

Periodic Emission Inventory. Periodic inventories were required to be submitted on November 15, 1995 and November 15, 1998, providing an estimate of emissions for 1993 and 1996, respectively. This inventory is not considered a SIP requirement for the Pittsburgh area, therefore they do not need to be approved into the SIP. Pennsylvania provided its most recent estimates of emissions for 1999 in this redesignation request and these emissions are summarized in tables provided later in this document.

Emission Statements. Pennsylvania formally submitted an emissions statement SIP on November 12, 1992 and EPA approved it on January 12, 1995 (60 FR 2881).

15% Plan. The 15% ROP plan for VOC reductions was required to be submitted by November 15, 1993, and, therefore is applicable to the Pittsburgh-Beaver Valley moderate ozone nonattainment area. The Commonwealth submitted a 15% plan on March 22, 1996 and EPA granted a conditional approval of the plan on January 14, 1998 (63 FR 2147). PADEP revised its 15 percent plan SIP on July 22, 1998 in order to address the conditions of the January 14, 1998 conditional approval. EPA removed the conditional approval of the Commonwealth's 15 percent plan and converted to a full approval on April 3, 2001 (66 FR 17634).

VOC and NOX RACT Requirements. SIP revisions requiring reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992 and apply to the Pennsylvania submittal. The Pennsylvania SIP has approved RACT regulations and requirements for all sources and source categories covered by the CTG's. These are listed in appendix A of the Technical Support Document (TSD) prepared in support of this proposed rulemaking. Copies of the TSD are available, upon request, from the EPA Regional Office listed in ADDRESSES section of this document.

On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by-case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, the PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfies the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP for subject sources located in Allegheny, Armstrong, Beaver, Butler, Fayette, Washington, and Westmoreland Counties, the limited approval of Pennsylvania's generic VOC and NOX RACT regulations shall convert to a full approval for the Pittsburgh area. Final action by EPA to approve the redesignation of the Pittsburgh area from nonattainment to attainment may occur only after the Pennsylvania's generic VOC and NOX RACT regulations are fully approved for that area.

It should be noted that the Commonwealth has adopted and is implementing additional “post RACT requirements” to reduce seasonal NOX emissions in the form of a NOX cap and trade regulation, 25 Pa Code Chapters 121 and 123, based upon a model rule developed by the States in the Ozone Transport Region. That rule's compliance date is May 1999. That regulation was approved as SIP revision on June 6, 2000 (65 FR 35842). Pennsylvania has also adopted regulations to satisfy Phase I of the NOX SIP call and submitted those regulations to EPA for SIP approval. Publication of EPA's rulemaking action on the Commonwealth's NOX SIP call rule SIP submittal will appear in the Federal Register in the near future.

Stage II Vapor Recovery. Section 182(b)(3) requires states to submit Stage II rules no later than November 15, 1992. The Pennsylvania Stage II rules were submitted as a SIP revision on March 4, 1992. The SIP was supplemented on October 16, 1995. EPA approved the Stage II program for the Commonwealth of Pennsylvania on December 13, 1995 (60 FR 63940).

Enhanced Vehicle Inspection and Maintenance (I/M). Pennsylvania submitted its enhanced I/M SIP to EPA on March 22, 1996. EPA granted conditional interim approval of the Commonwealth's enhanced I/M SIP on January 28, 1997. EPA granted full approval of the Commonwealth's enhanced I/M program on June 17, 1999 (64 FR 32411).

3. The Improvement in Air Quality Must Be Due to Permanent and Enforceable Reductions in Emissions

The improvement in air quality must be due to permanent and enforceable reductions in emissions resulting from the SIP, Federal Measures, and other state adopted measures. The improvement in air quality in the Pittsburgh area is due to emissions reductions from reductions in point, stationary, area, and mobile sources. Point source reductions are due to implementation of RACT, additional NOX controls, 111(d) plans and National Emission Standards for Hazardous Air Pollutants (NESHAPS) which reduce VOCs, Prevention of Significant Deterioration (PSD), and NSR. Additional stationary area source controls were implemented for the following categories: Automobile refinish coatings, consumer products, architectural and industrial maintenance coatings, wood furniture coatings, aircraft surface coating, marine surface coating, metal furniture coating, municipal solid waste landfills, treatment storage and disposal facilities, and Stage II vapor recovery. Several programs were implemented to reduce highway vehicle emissions, such as the Federal Motor Vehicle Control Program (FMVCP), a Pittsburgh-specific summertime gasoline 7.8 psi volatility limit, and enhanced I/M. Nonroad source programs include Federal rules for large and small compression-ignition engines, small spark-ignition engines, and recreation spark-ignition marine engines.

Pennsylvania has satisfied the criteria of section 107(d)(3)(E) that the improvement in air quality must be due to permanent and enforceable reductions in emissions resulting from the SIP, Federal Measures, and other state adopted measures.

4. The Area Must Have a Fully Approved Maintenance Plan Meeting the Requirements of Section 175A

Section 175A of the CAA sets for the elements of a maintenance plan for areas seeking redesignation from nonattainment to attainment. The maintenance plan is a SIP revision which provides for maintenance of the relevant NAAQS in the area for at least 10 years after redesignation. The EPA memorandum, dated September 4, 1992 from John Calcagni, provides additional guidance on the required content of a maintenance plan. An ozone maintenance plan should address the following five areas: the attainment emissions inventory, maintenance demonstration, monitoring network, verification of continued attainment and a contingency plan. The attainment emissions inventory identifies the emissions level in the area which is sufficient to attain the 1-hour ozone NAAQS, and includes emissions during the time period which had no monitored violations. Maintenance is demonstrated by showing that future emissions will not exceed the level established by the attainment inventory. Provisions for continued operation of an appropriate air quality monitoring network are to be included in the maintenance plan. The state must show how it will track and verify the progress of the maintenance plan. Finally, the potential contingency measures ensure prompt correction of any violation of the ozone standard.

The PADEP included a 1999 emissions inventory as the attainment inventory. The maintenance plan provides emissions estimates from 1990 to 2011 for VOCs and NOX (see Tables 1 and 2, below). The emissions in the Pittsburgh area are projected to decrease from the 1999 levels. The results of the analysis show that the Pittsburgh area is expected to maintain the air quality standard for at least 10 years into the future after redesignation.

Table 1.—VOC Emissions from 1999 to 2011 in the Pittsburgh Area
Major source category | 1999 attainment | 2007 projected | 2011 projected
Point sources | 34 | 36 | 38
Stationary Area Sources | 130 | 136 | 142
Highway Vehicles | 110 | 98 | 102
Nonroad Engines/Vehicles | 64 | 42 | 37
Total | 338 | 313 | 319

Table 2.—NOX Emissions from 1999 to 2011 in the Pittsburgh Area
Major source category | 1999 attainment | 2007 projected | 2011 projected
Point sources | 282 | 199 | 199
Stationary Area Sources | 10 | 10 | 10
Highway Vehicles | 171 | 129 | 115
Nonroad Engines/Vehicles | 75 | 67 | 60
Total | 538 | 405 | 384

The Commonwealth's plan commits to continue the operation of the monitors in the area in accordance with 40 CFR part 58. The Commonwealth's plan also states that it will track maintenance by reviewing the air quality and emissions data during the maintenance period. As stated earlier, the plan also includes motor vehicle emission budgets to be used for transportation conformity purposes for the Pittsburgh area upon the effective date of the final approval of the maintenance plan.

The contingency plan for the Pittsburgh area consists of attainment tracking and contingency measures to be implemented in the event that a violation of the ozone NAAQS occurs in the Pittsburgh area. Two measures of attainment tracking will be utilized in the Pittsburgh area: (1) air quality monitoring using the existing ozone monitoring network, and (2) inventory updates on a regular schedule. Stationary, mobile, and area source inventories will be updated a minimum of once every three years beginning in 2002. The inventories will be assessed by comparison with the 1999 maintenance inventory to ensure that the emissions do not exceed the attainment year inventory by more than 10 percent. The Commonwealth will develop periodic emissions inventories (every 3 years) beginning in 2002 and will evaluate these inventories relative to the 1999 baseline to assess whether further controls are needed.

The contingency measures included in the plan to be considered for implementation for the Pittsburgh area are four VOC model rules currently being considered as additional measures for the Philadelphia Ozone Nonattainment area. The rules are part of a recent Memorandum of Understanding (MOU) and resolutions signed on March 28, 2001 by the member states of the Ozone Transport Commission (OTC). The VOC rules under consideration have the potential to reduce emissions from consumer products, portable fuel containers, architectural and industrial Maintenance coatings, and solvent cleaning operations.

The Commonwealth's submittal adequately addresses the five basic components which comprise a maintenance plan (attainment inventory, maintenance demonstration, monitoring network, verification of continued attainment, and a contingency plan) and therefore, satisfies the maintenance plan requirement of section 107(d)(3)(E).

The CAA section 175A(b) also requires the PADEP to submit a revision of the SIP eight years after the original redesignation request is approved to provide for maintenance of the NAAQS for an additional 10 years following the first 10-year period. The Commonwealth recognizes that it is required to submit such a SIP revision 8 years after this request and maintenance plan are approved.

Proposed Actions

EPA is proposing to redesignate the Pittsburgh area from nonattainment to attainment of the 1-hour ozone NAAQS and is proposing to approve the maintenance plan submitted by the Commonwealth on April 9, 2001. By proposing approval of the Pittsburgh area maintenance plan, EPA is also proposing to approve the MVEBs contained in that plan as adequate for maintenance of the ozone NAAQS and for transportation conformity purposes. EPA is also proposing to approve the 1990 NOX base year emissions inventory. EPA is also proposing to convert its limited approval of Pennsylvania's NSR program to a full approval for the entire Commonwealth, with the exception of the Philadelphia area where it will retain its limited approval status. Final action by EPA to approve the redesignation of the Pittsburgh area from nonattainment to attainment may occur only after the Pennsylvania's generic VOC and NOX RACT regulations are fully approved for that area.

EPA is soliciting public comments on the issues discussed in this notice or on other relevant matters. These comments will be considered before taking final action. Interested parties may participate in the Federal rulemaking procedure by submitting written comments to the EPA Regional office listed in the ADDRESSES section of this document. Interested parties should submit comments by June 29, 2001. All interested parties are advised to submit comments at this time as EPA does not intend to extend this comment period or to institute a second comment period.

This redesignation is being proposed under a procedure called parallel processing, whereby EPA proposes rulemaking action concurrently with the state's procedures for amending its regulations. If the proposed maintenance plan is substantially changed in areas other than those identified in this notice, EPA will evaluate those changes and may publish another notice of proposed rulemaking. If no substantial changes are made other than those areas cited in this notice, Pennsylvania will publish a Final Rulemaking Notice on the revisions. The final rulemaking action by EPA will occur only after the SIP revision has been adopted by Pennsylvania and submitted formally to EPA for incorporation into the SIP.

Administrative Requirements

Under Executive Order 12866 (58 FR 51735, October 4, 1993), this proposed action is not a “significant regulatory action” and therefore is not subject to review by the Office of Management and Budget. This action merely proposes to approve state law as meeting Federal requirements and imposes no additional requirements beyond those imposed by state law. Accordingly, the Administrator certifies that this proposed redesignation and associated maintenance plan will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a federal standard, and does not alter the relationship or the distribution of power and responsibilities established in the Clean Air Act. This proposed redesignation and associated maintenance plan also are not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order.

This proposed redesignation of the Pittsburgh area from nonattainment to attainment for the 1-hour ozone NAAQS does not impose an information collection burden under the provisions of the Paperwork Reduction Act of 1995 (44 U.S.C. 3501 et seq.).

List of Subjects in 40 CFR Part 52

Environmental protection, Air pollution control, Nitrogen dioxide, Ozone, Reporting and recordkeeping requirements, Volatile organic compounds.

List of Subjects in 40 CFR Part 81

Environmental protection, Air pollution control.

Authority: 42 U.S.C. 7401 et seq.

Dated: May 21, 2001
Thomas C. Voltaggio,
Acting Regional Administrator, Region III.

[FR Doc. 01-13513 Filed 5-29-01; 8:45 am]

BILLING CODE 6560-50-P